DEPARTMENT OF THE INTERIOR

National Park Service

Dog Management Plan; Golden Gate National Recreation Area, Marin, San Francisco and San Mateo Counties, CA; Notice of Intent To Prepare an Environmental Impact Statement

Summary: Under the provisions of the National Environmental Policy Act of 1969, the National Park Service (NPS) is preparing an environmental impact statement for a Dog Management Plan for Golden Gate National Recreation Area (GGNRA). The purpose of the Dog Management Plan is to provide clear, enforceable guidelines to determine the manner and extent of dog-walking use in appropriate areas of the park. The objectives are to protect and preserve natural and cultural resources; provide a variety of visitor experiences; improve visitor and employee safety; reduce user conflicts; and to maintain park resources and values for future generations. The Dog Management Plan will also address public desire to walk dogs off-leash in certain areas of GGNRA.

Background: A dog management plan is needed at this time because the existing NPS regulation governing dogs in parks, codified at 36 CFR 2.15, has not been effective in resolving longstanding, controversial resource management and public use conflicts and safety issues at GGNRA. If no action is taken, GGNRA resources and values could be compromised to the extent that areas of the park may not be available for enjoyment by future generations. A history of a dog management policy that has been inconsistent with NPS regulations has resulted in controversy and litigation, compromised visitor and employee safety, affected visitor experience and resulted in resource degradation. The conflicts will likely escalate if not addressed in a comprehensive dog management plan.

In order to implement a dog management plan that may allow off-leash dog walking, a special federal regulation would need to be promulgated governing dog walking in GGNRA.

Largely because of intense public interest and debate regarding dog walking, GGNRA has decided to use a negotiated rulemaking process to reach consensus on a proposed regulation for the management of dogs within the park. Although each process has its own separate legal requirements, the negotiated rulemaking process will run concurrently with the preparation of the EIS in order to facilitate informed decision-making. GGNRA intends to create a Negotiated Rulemaking Committee, consistent with the Negotiated Rulemaking Act and the Federal Advisory Committee Act, made up of representatives of interest groups that could be affected by a change to the current regulation governing dogs. The Negotiated Rulemaking Committee will negotiate to reach consensus on concepts and language to use as the basis for a special regulation for dog management at GGNRA. If the Committee reaches a consensus on most or many issues, that consensus would be incorporated into one or more alternatives in the Draft EIS and if selected, would ultimately become the basis of a special regulation for dog-walking within GGNRA.

Scoping Process: To be most helpful to the scoping process necessary to inform preparation of the dog management plan and Draft EIS, comments regarding the scope of the plan/EIS, relevant environmental information, or issues or concerns are encouraged. All comments must be postmarked or transmitted not later than 30 days after publication of this notice in the Federal Register; immediately upon confirmation of this date it will be announced on the park's Web site (http://www.nps.gov/goga). The NPS intends to conduct public scoping meetings in the GGNRA area in early 2006. Please check the park's Web site, the NPS planning, environment, and public comment (PEPC) Web site (http://parkplanning.nps.gov/goga), or telephone the GGNRA Negotiated Rulemaking Information Line (415) 561-4728 for current information on when and where these meetings will be held. To request a sign language interpreter for a meeting, please call Mike Feinstein at (415) 561-4733 a week in advance of the meeting.

Regularly updated information regarding this project can be found on the GGNRA and PEPC websites, and will be available for public review at the park's visitor centers at Fort Mason, Pacifica, Presidio, Marin Headlands and Muir Woods. A public scoping brochure that further explains the purpose, needs, issues, and objectives of the plan/EIS will also be available before the meetings. Copies of the brochure will be sent to those on the Dog Management Plan mailing list, or may be obtained on the GGNRA or PEPC websites, or at the GGNRA visitor centers at Fort Mason, Presidio, Pacifica, Marin Headlands and Muir Woods.

All interested individuals and organizations may submit comments online through the PEPC website (http://parkplanning.nps.gov/goga). Click on “Golden Gate National Recreation Area Dog Management Plan” and follow the instructions on the website. Detailed written comments may also be sent to the attention of the Superintendent, GGNRA, Fort Mason, Building 201, San Francisco, CA 94123.

Please note that names and addresses of people who comment become part of the public record. If individuals commenting request that their name and/or address be withheld from public disclosure, it will be honored to the extent allowable by law. Such requests must be stated prominently in the beginning of the comments. There also may be circumstances wherein the NPS will withhold from the record a respondent's identity, as allowable by law. As always: The NPS will make available to public inspection all submissions from organizations or businesses and from persons identifying themselves as representatives or officials of organizations and businesses; and, anonymous comments may not be considered.

When using PEPC to comment, if you would like your name and/or address withheld from the public record but would like to receive future mailings on the project, you may fill in the name and address field, and mark “keep my contact information private”. If you do not want to receive any additional information on the project in the future and are only using PEPC to comment, you may put N/A in the name and address field.

Decision Process: At this time it is anticipated that the draft plan/EIS will be made available for public review in late fall, 2006. Availability of the draft document will be formally announced through the publication of a Notice of Availability in the Federal Register, as well as through local and regional news media, the GGNRA and PEPC websites, and direct mailing to the project mailing list. Public meetings on the draft plan/EIS will also be held following its release; as soon as dates and locations are determined these will be announced via local and regional press and direct mailings. As a delegated EIS, the official responsible for approval of the Record of Decision is the NPS Regional Director, Pacific West Region; subsequently the official responsible for implementation is the Superintendent, Golden Gate National Recreation Area.

Dated: November 2, 2005.
George J. Turnbull,
Acting Regional Director, Pacific West Region.

[FR Doc. E6-2488 Filed 2-21-06; 8:45 am]

BILLING CODE 4310-70-P